ENVIRONMENTAL PROTECTION AGENCY

[EPA-HQ-OAR-2020-0579; FRL-10025-87-OMS]

Information Collection Request Submitted to OMB for Review and Approval; Comment Request; Mobile Air Conditioner Retrofitting Program (Renewal)

AGENCY: Environmental Protection Agency (EPA).

ACTION: Notice.

SUMMARY: The Environmental Protection Agency has submitted an information collection request (ICR), Mobile Air Conditioner Retrofitting Program (EPA ICR Number 1774.08, OMB Control Number 2060-0350) to the Office of Management and Budget (OMB) for review and approval in accordance with the Paperwork Reduction Act. This is a proposed extension of the ICR, which is currently approved through August 31, 2021. Public comments were previously requested via the Federal Register on January 19, 2021 during a 60-day comment period. This notice allows for an additional 30 days for public comments. A fuller description of the ICR is given below, including its estimated burden and cost to the public. An agency may not conduct or sponsor and a person is not required to respond to a collection of information unless it displays a currently valid OMB control number.

DATES: Additional comments may be submitted on or before August 2, 2021.

ADDRESSES: Submit your comments, referencing Docket ID No. EPA-HQ-OAR-2020-0579, online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Christina Thompson, Environmental Protection Agency, Stratospheric Protection Division, Office of Atmospheric Programs, MC 6205T, Environmental Protection Agency, 1200 Pennsylvania Ave. NW, Washington, DC 20460; telephone number: (202) 564-0983; email address: thompson.christina@epa.gov.

SUPPLEMENTARY INFORMATION: Supporting documents which explain in detail the information that the EPA will be collecting are available in the public docket for this ICR. The docket can be viewed online at https://www.regulations.gov. The telephone number for the Docket Center is 202-566-1744. For further information on EPA Docket Center services and the current status, please visit https://www.epa.gov/dockets.

Abstract: EPA's Significant New Alternatives Policy (SNAP) program implements Section 612 of the 1990 Clean Air Act (CAA) Amendments which authorizes the Agency to establish regulatory requirements to ensure that ozone-depleting substances (ODS) are replaced by alternatives that reduce overall risks to human health and the environment, and to promote an expedited transition to safe substitutes. To promote this transition, the CAA specified that EPA establish an information clearinghouse of available alternatives, and coordinate with other Federal agencies and the public on research, procurement practices, and information and technology transfers.

Since the program's inception in 1994, SNAP has reviewed close to 500 new chemicals and alternative manufacturing processes for a wide range of consumer, industrial, space exploration, and national security applications. Roughly 90% of alternatives submitted to EPA for review have been listed as acceptable for a specific use, typically with some condition or limit to minimize risks to human health and the environment.

Regulations promulgated under SNAP require that Motor Vehicle Air Conditioners (MVACs) retrofitted to use a SNAP substitute refrigerant include basic information on a label to be affixed to the air conditioner. The label includes the name of the substitute refrigerant, when and by whom the retrofit was performed, environmental and safety information about the substitute refrigerant, and other information. This information is needed so that subsequent technicians working on the MVAC system will be able to service the equipment properly, decreasing the likelihood of significant refrigerant cross-contamination and potential failure of air conditioning systems and recovery/recycling equipment.

Form Numbers: None.

Respondents/affected entities: Entities potentially affected by this action are new and used car dealers, gas service stations, top and body repair shops, general automotive repair shops, automotive repair shops not elsewhere classified, including air conditioning and radiator specialty shops.

Respondent's obligation to respond: Mandatory under 40 CFR 82.180.

Estimated number of respondents: 3 (total).

Frequency of response: Once per retrofit of a motor vehicle air conditioner.

Total estimated burden: Less than one hour (per year). Burden is defined at 5 CFR 1320.3(b).

Total estimated cost: $3.64 (per year), includes $0.10 (per year) annualized capital or operation & maintenance costs.

Changes in estimates: There is a decrease of less than one hours in the total estimated respondent burden compared with the ICR currently approved by OMB (per year). This decrease is based on the decline of MVACs in service today using chlorofluorocarbons (CFCs), specifically CFC-12.

Courtney Kerwin,
Director, Regulatory Support Division.

[FR Doc. 2021-14121 Filed 7-1-21; 8:45 am]

BILLING CODE 6560-50-P